DEPARTMENT OF AGRICULTURE

Forest Service

Sisters Ranger District; Oregon; Withdrawal of Notice for Preparation of an Environmental Impact Statement for the Popper Vegetation Management Project

AGENCY: Forest Service, USDA.

ACTION: Notice of withdrawal.

SUMMARY: The Sisters Ranger District, Deschutes National Forest, is withdrawing their intent to prepare an Environmental Impact Statement (EIS) for the Popper Vegetation Management Project. The original Notice of Intent (NOI) was published in the Federal Register on January 4, 2011 (Vol. 76, No. 2, p 315-316). The Forest Service has determined that because of changed conditions due to the 2012 Pole Creek fire that a new project is necessary. The new project would be documented in an environmental assessment (EA).

FOR FURTHER INFORMATION CONTACT: Michael Keown, Project Leader, Sisters Ranger District, Highway 20 and Pine Street, Sisters, OR 97759, phone 541-549-7735.

Dated: January 8, 2014.
John Allen,
Forest Supervisor.

[FR Doc. 2014-01020 Filed 1-21-14; 8:45 am]

BILLING CODE 3410-11-M